DEPARTMENT OF THE INTERIOR

National Park Service

[2253-665]

Notice of Intent To Repatriate Cultural Items: U.S. Department of Defense, Army Corps of Engineers, Walla Walla District, Walla Walla, WA and the Museum of Anthropology, Washington State University, Pullman, WA

AGENCY: National Park Service, Interior.

ACTION: Notice.

SUMMARY: The United States Department of Defense, Army Corps of Engineers, Walla Walla District, in consultation with the appropriate Indian tribes, has determined that the cultural items meet the definition of unassociated funerary objects and repatriation to the Indian tribes stated below may occur if no additional claimants come forward. Representatives of any Indian tribe that believes itself to be culturally affiliated with the cultural items may contact the U.S. Department of Defense, Army Corps of Engineers, Walla Walla District.

DATES: Representatives of any Indian tribe that believes it has a cultural affiliation with the cultural items should contact U.S. Department of Defense, Army Corps of Engineers, Walla Walla District at the address below by December 29, 2011.

ADDRESSES: LTC David Caldwell, U.S. Department of Defense, Army Corps of Engineers, Walla Walla District, 201 North Third Ave., Walla Walla, WA 99362, telephone (509) 527-7700.

SUPPLEMENTARY INFORMATION: Notice is here given in accordance with the Native American Graves Protection and Repatriation Act (NAGPRA), 25 U.S.C. 3005, of the intent to repatriate cultural items in the possession of the U.S. Department of Defense, Army Corps of Engineers, Walla Walla District (Corps), Walla Walla, WA, and in the physical custody of the Washington State University, Museum of Anthropology (WSU), Pullman, WA that meet the definition of unassociated funerary objects under 25 U.S.C. 3001.

This notice is published as part of the National Park Service's administrative responsibilities under NAGPRA, 25 U.S.C. 3003(d)(3). The determinations in this notice are the sole responsibility of the museum, institution, or Federal agency that has control of the cultural items. The National Park Service is not responsible for the determinations in this notice.

History and Description of the Cultural Items

Sites 45BN15, 45BN55, 45BN161, Site 45BN45 (aka 45BN186), 45FR101, 45WW63 and 45BN3 are situated in the McNary Lock and Dam Project lands, managed by the Corps, who initiated land acquisition processes for the Project in 1947. Sites 45WW16 and 45WW30 are situated in the Ice Harbor Lock and Dam Project lands on the Snake River, managed by the Corps, who initiated land acquisition processes for the Project in 1955. Sites 45FR52 and 45WT56 are situated in the Lower Monumental Lock and Dam Project lands on the Snake River, managed by the Corps, who initiated land acquisition processes for the Project in 1960. Site 45GA18 is situated in the Little Goose Lock and Dam Project lands on the Snake River, managed by the Corps, who initiated land acquisition processes for the Project in 1963. Sites 45WT47, 45WT65, 45WT97, 45WT99, 45WT102, 45AS81, 45GA100 and 45GA47 are situated in the Lower Granite Lock and Dam Project lands on the Snake River, managed by the Corps, who initiated land acquisition processes for the Project in 1965.

Site 45AS81

In 1971, the University of Idaho's (UI) Nez Perce Grave Removal Project (NPGRP) excavated 91 burials from Site 45AS81, the Alpaweyma Burial Site in Asotin County, WA. Materials from the 1971 UI excavations were transported to the UI Laboratory of Anthropology in Moscow, ID. Funerary objects from 45AS81 were transferred to Washington State University (WSU) Museum of Anthropology in 1998; this collection includes unassociated funerary objects from Burials 1, 4-21, 23, 27, 31, 36, 39-57, 59, 61, 64-65, 67, 69-74B, 76, 79-81, 83-94, 96, 98-99, 101, 103, as well as from the backfill and the ground surface. Funerary objects from the site date from the Piqunin Phase (ca. 1300-1700 AD) to the late nineteenth century. The 633 unassociated funerary objects are: 1 bone whistle, 1 bone necklace, 2 bone combs, 1 horse tooth pendant, 1 bone gaming piece, 1 projectile point, 1 preform, 3 stone cores, 5 brass tubes, 1 cap box, 1 ceramic pipe, 1 ceramic doll, 1 powder horn cap, 1 locket, 1 crucifix, 1 lamp wick holder, 2 marbles, 1 book, 1 lamp wick, 2 bottles, 3 spoons, 1 copper pendant, 13 brass bracelets, 3 studded leather bracelets, 7 rings, 1 bell, 7 dimes, 7 shell pendants, 3 lots of animal remains, 36 lots of stone flakes, 17 lots of metal fragments, 1 lot of wooden beads, 312 lots of glass beads, 12 lots of metal beads, 1 lot of fish hooks, 1 lot of concho fragments, 18 lots of leather fragments, 1 lot of tin can fragments, 39 lots of buttons, 1 lot of hook and eye, 6 lots of buckle fragments, 14 lots of fabric remnants, 1 lot of matting, 3 lots of mirror fragments, 5 lots of small bells, 2 lots of gun fragments, 2 lots of ammunition, 33 lots of nails, 38 lots of wood fragments, 12 lots of shell beads, 2 lots of charcoal, 1 lot of petrified wood, 1 lot of red ochre.

Site 45BN3

In 1948, the Smithsonian Institution's River Basin Survey Project (SRBS) removed funerary objects from Site 45BN3, a pre-contact-protohistoric village site located on Berrian's Island in the Columbia River in Benton County, WA. Portions of the collection were originally housed at the University of Washington (UW) Burke Museum, Seattle, WA, and were transferred to WSU in 1996, at the Corps' request. WSU inventoried the collection in 2002 and identified 170 unassociated funerary objects: 2 adzes, 4 antler wedges, 1 awl, 2 bear teeth, 20 beaver incisors, 6 bifaces, 3 bird bone whistles, 1 bone pendant, 1 carved antler item, 1 carved bone item, 5 copper pendants, 6 digging stick handles, 5 elk tooth beads, 1 incised bird bone, 3 incised stones, 1 iron ferrule, 1 metal ax, 2 metal bracelets, 6 metal knives, 1 net weight, 3 pestles, 2 polished bone items, 8 projectile points, 2 shell pendants, 4 stone abraders, 1 stone figurine, 1 stone pipe, 3 stone scrapers, 7 lots of bag residue, 2 lots of bird remains, 1 lot of bone beads, 2 lots of fish remains, 1 lot of glass beads, 3 lots of mammal remains, 3 lots of matting fragments, 4 lots of metal beads, 6 lots of metal fragments, 4 lots of natural stone, 6 lots of ochre, 8 lots of seed beads, 19 lots of shell beads, 2 lots of shellfish remains, 1 lot of stone beads, 3 lots of stone flakes, 2 lots of wood fragments.

Site 45BN15

In 1947, 1951, and 1952, funerary objects were removed from Site 45BN15, on Rabbit Island in the Columbia River, Benton County, WA. UW initially housed the portions of the collections that were later transferred to WSU in 1997 and 2001. In 2002, WSU inventoried the collections and identified 65 unassociated funerary objects: 1 bear claw, 1 biface, 2 digging stick handles, 5 incised beaver teeth, 1 pestle, 3 polished bone items, 1 polished ground stone, 4 projectile points, 1 stone core, 8 lots of bird remains, 1 lot of mammal remains, 3 lots of natural stone, 1 lot of ochre, 18 lots of shell beads, and 15 lots of stone flakes. The burials at Rabbit Island were interpreted to have been from two distinct time periods based on burial traditions/methods; Rabbit Island II dated to at least pre-1750 AD; and Rabbit Island I dated to the Frenchman-Springs Phase (3500-1500 BP).

Site 45BN55

In 1949 and 1950, funerary objects were removed from Site 45BN55, a village site on Sheep Island in Benton County, WA. The collections were initially housed at UW, who transferred them to WSU in 1997 at the request of the Corps. In 2002, WSU inventoried the collections and identified 42 unassociated funerary objects: 5 bifaces, 1 bone needle, 4 bone pendants, 13 carved bone items, 11 projectile points, 1 stone pendant, 1 lot of fused bone sand with basket impressions, 2 lots of natural stone, 1 lot of seed beads, 2 lots of stone flakes, and 1 lot of worked stone fragments. The burials at the site were dated to the late pre-contact period.

Site 45BN161

In 1968, 1975, and 1982, funerary objects were removed from Site 45BN161 during salvage archeology efforts by UI and the Mid-Columbia Archaeological Society (MCAS). The majority of the excavated collection is reported to have been reburied at the West Richland Cemetery (also known as the Wanawish Cemetery) in 1973, 1976, and 1982, by the Confederated Bands and Tribes of the Yakama Nation, Washington. Inventories by WSU in 2000 and 2003 identified 23 unassociated funerary objects: 1 shell pendent, 1 shell bracelet, 1 hammerstone, 3 ground stone items, 1 lot of bag residue, 1 lot of debitage, 7 lots of shell beads, 2 lots of mammal remains, 1 lot of plant remains, 3 lots of shell remains, 1 lot of ochre, and 1 soil sample. The archeological data indicates a nearly continuous distribution of cultural material at 45BN161 spanning approximately 2,000 years. Most of burials interpreted to date to the late pre-contact-protohistoric occupation.

Site 45BN45 (aka 45BN186)

In 1976, UI removed funerary objects from Site 45BN45 (aka 45BN186) that were from previously disturbed burials. The majority of the excavated collection was reburied at the Wanawish Cemetery, and the remaining funerary objects were transported to UI. In 1995, the collections were transferred from UI to WSU. The seven funerary objects are: 2 chert projectile points, 1 basalt adze blade, 1 bone awl, 1 antler wedge, 1 lot of glass beads, and 1 lot of shell beads. The funerary objects date to the late pre-contact or proto-historic period.

Site 45FR52

In 1964, WSU investigated Site 45FR52, also known as the Mesa Burial site, in Franklin County, WA. The investigation reported the site as “a historic burial that had been completely destroyed by amateur looters.” No human remains were found; however, materials thought to be funerary objects were removed from the site and transported to WSU. The site was tested in 1992 by BOAS, Inc. during the Palouse Canyon Archaeological District project. Materials “commonly associated with historic and pre-contact Native American burials” were recovered and transported to WSU. The 27 unassociated funerary objects are: 1 copper fragment, 1 cinch ring, 1 stone chopper, 1 stone pipe fragment, 2 lots of mammal remains, 5 lots of metal fragments, 10 lots of glass beads, 2 lots of stone flakes, 1 lot of wood fragments, 1 lot of nails, and 2 lots of leather fragments. The unassociated funerary objects removed from 45FR52 in 1964 are interpreted to date to 1820-1850 based on the types of historic period objects present; those removed in 1992 appear to date to the late precontact-protohistoric period (ca. 1300-1800 AD).

Site 45FR101

In 1967, funerary objects were removed from 45FR101, at Chiawana Park in Benton County, WA. An additional ten burials were removed from the site in 1967 during excavations led by WSU and assisted by the MCAS. In 1982, the burials were reportedly reburied at Wanawish Cemetery. From 1990-2000, funerary objects from the excavations were transferred from UI and MCAS members to WSU. Inventories conducted by WSU resulted in the identification of 6 unassociated funerary objects: 1 bone needle, 1 lot of stone flakes, 2 lots of shell beads, and 2 lots of natural stones. All of the burials at the site have been dated to the late pre-contact period.

Site 45GA18

From 1979-1981, UI and the Corps removed funerary objects from Site 45GA18 on Rice Bar in Garfield County, WA. Although no funerary objects were reported in any of the excavation reports, eight funerary objects were identified at WSU during the 2001 inventory (four defined as 45GA18 and 4 from either 45GA18 or 45GA101). The collection includes 4 confirmed unassociated funerary objects from 45GA18: 3 lots of shell beads, and 1 stone flake; and 4 unassociated funerary objects from either 45GA18 or 45GA101: 1 lot of elk tooth beads, 1 lot of glass beads, 1 lot of bone beads, and 1 projectile point. Funerary objects from Site 45GA18 were dated to the late pre-contact period based on funerary traditions documented at the site.

Site 45GA47

In 1971, a single burial was recovered under the NPGRP from Site 45GA47, and later reburied at the Hill Top Cemetery in Spalding, ID. In 1979, additional investigations were undertaken at the site and shell samples recovered by UI were dated to the Harder phase (805 BP±110). The two unassociated funerary objects from the site are 1 lot of debitage, and 1 hammerstone; both from Burial 1.

Site 45GA100

Funerary objects were removed during multiple investigations between 1968 and 1978 from Site 45GA100, the Offield Bar Cemetery, in Garfield County, WA. The cemetery consisted of 21 burials, four of which were considered to be Native American at the time of removal (Burials 18, 19, 20, and 21). Additional investigations by UI (1968, 1977, 1978) and WSU (1969) resulted in the removal of 16 additional burials (Burials 22-37) with associated funerary objects. The human remains from 45GA100 have been reburied and all funerary objects were transported to UI's Laboratory of Anthropology in Moscow, ID. Funerary objects, recovered from Burials 18, 20, 22-28, 31, and 36, were transferred from UI to WSU in 1998 and 2000. The 59 unassociated funerary objects are: 1 pestle, 1 net weight, 1 biface, 4 projectile points, 4 ground stone items, 2 shell pendants, 1 nephrite adze, 3 digging stick handles, 5 lots of wood fragments, 9 lots of stone flakes, 5 lots of mammal remains, 7 lots of nails, 1 lot of shellfish remains, 8 lots of basketry fragments, 3 lots of natural stone, 1 lot of shell beads, 1 lot of bird remains, 1 lot of charcoal, and 1 lot of elk tooth beads. The unassociated funerary objects from 45GA100 were interpreted to date to the late pre-contact period, specifically the period 1650-1750 AD as reflected by funerary traditions documented at the site.

Site 45WT47

In 1971, UI's NPGRP excavated funerary objects from a cairn burial at Site 45WT47. In 1974, UI returned to Site 45WT47 and salvaged funerary objects from two additional burials. The human remains and funerary objects from both investigations were transported to UI and the human remains were reburied in 1978. The funerary objects were transferred from UI to WSU in 1998 and 2000. The 53 unassociated funerary objects are: 1 battered cobble, 1 bell, 2 combs, 1 digging stick handle, 1 gaming piece, 1 pestle, 2 shell pendants, 4 lots of buttons, 27 lots of glass beads, 1 lot of glass fragments, 1 lot of leather fragments, 1 lot of mammal remains, 2 lots of metal beads, 2 lots of metal fragments, 2 lots of nails, 2 lots of shell beads, 1 lot of soil, and 1 lot of stone flakes. Unassociated funerary objects from 45WT47, located at the known Nez Perce village of Wawawai-pu, appear to date to the late pre-contact period (Burial 1) to the early historic period (Burials 2-4) as reflected by the funerary traditions documented at the site.

Site 45WT56

In 1964, WSU removed funerary objects from three intact talus slope burial pits and surrounding disturbed pits at 45WT56, the Palus Talus Burial Site, in Whitman County, WA. Burials were designated as Pits 1, 2, and 3, and Burials 1A, 1B, 2, 3, 4, 5, 6, 7, and 8. The 15 unassociated funerary objects collected were transported to WSU: 2 lots of stone flakes, 5 lots of wood fragments, 4 lots of mammal remains, and 4 lots of bag residue. The items appear to date to the early historic period based on the presence of trade items; burial methods documented are characteristic of late pre-contact and early historic burial practices from the Lower Snake River.

Site 45WT65

During the 1971 season of the NPGRP, UI removed funerary objects from eight talus slope burials at 45WT65, the Nisqually John Talus/Indian Siding Site, in Whitman County, WA. The funerary objects were transferred from UI to WSU in 1998. The 114 unassociated funerary objects are: 1 bead and shell necklace, 2 bead necklaces, 1 button pendant, 1 metal ferrule, 1 metal ornament, 1 metal plate, 1 musket ball mold, 1 stone pipe, 1 stone scraper, 1 worked bone item, 2 unidentified items, 1 lot of bag residue, 1 lot of bird remains, 1 lot of bone beads, 2 lots of brass fragments, 2 lots of buttons, 1 lot of cordage, 50 lots of glass beads, 1 lot of horse tooth fragments, 1 lot of leather fragments, 5 lots of mammal remains, 1 lot of metal and glass beads, 4 lots of metal beads, 1 lot of natural stone, 2 lots of plant remains, 7 lots of shell beads, 1 lot of shellfish remains, 4 lots of stone flakes, 4 lots of thimbles, 6 lots of unidentified metal items, and 6 lots of wood fragments. Funerary objects and burial methods indicate that Site 45WT65 dates to the early historic period (post-1813); reflecting Lower Snake River late pre-contact Native American burial patterns.

Site 45WT97

In 1973, UI excavated funerary objects from a single burial (Burial 1) at Site 45WT97, a possible fishing camp on Wilma Bar in Whitman County, WA. The materials were transported to UI and in 1998 transferred to WSU. The six unassociated funerary objects are: 1 tubular pipe, 1 lot of wood fragments, 2 lots of mammal remains, 1 lot of stone flakes, and 1 lot of shell beads. The burial at 45WT97 in interpreted to date to the late pre-contact period based on the types of funerary objects (lithics and dentalia).

Site 45WT99

In 1973, UI recovered human remains and funerary objects from 19 burials discovered during railroad relocation activities at Site 45WT99, the Wilma Bar Silo Site in Whitman County, WA. The funerary objects collected were transported to UI after excavation. UI transferred one box of materials from the site to WSU in 2000. The 56 unassociated funerary objects are: 1 awl, 1 bone shuttle, 1 bone whistle, 2 dishes, 5 shell pendants, 1 stone scraper, 4 lots of charcoal, 3 lots of elk tooth beads, 3 lots of glass fragments, 2 lots of mammal remains, 3 lots of metal fragments, 2 lots of nails, 1 lot of ochre, 13 lots of shell beads, 1 lot of shell fish remains, 9 lots of stone flakes, and 4 lots of wood fragments. The relative lack of historic trade good in the burials, and burial methods documented at the Site indicated a late pre-contact inhumation.

Site 45WT102

In 1973, UI removed funerary objects from 18 cairn burials at Site 45WT102, the Wilma Bar Bench Burial Site in Whitman County, WA. The funerary objects collected were transported to UI after excavation and in 2000 were transferred to WSU. The 28 unassociated funerary objects are: 2 projectile points, 1 pestle, 1 shell pendant, 1 incised stone item, 1 bone comb, 3 lots of charcoal, 1 lot of button fragments, 6 lots of shell beads, 5 lots of stone flakes, 3 lots of antler fragments, 1 lot of leather fragments, 2 lots of nails, and 1 lot of mammal remains. The funerary objects from 45WT102 are interpreted to date to the late pre-contact-early historic periods based on the burial methods and funerary traditions exhibited at the site.

Site 45WW16

In 1948, artifacts were recovered from the surface of Site 45WW16 in Walla Walla County, WA. The site was documented by SRBS and the items were interpreted as funerary objects. Physical examination of the collections in 2011 suggested to WSU that these are unassociated funerary objects. The site is an open camp and rock image site that appears to date to the Harder Phase. The nine unassociated funerary objects are: 2 projectile points, 3 lots of glass beads, 2 lots of shell beads, 1 lot of metal fragments, and 1 lot of bag residue.

Site 45WW30

In 1959, WSU monitored the recovery of funerary objects from three burials (the Sheffler Cut Burials) exposed during railroad relocation at Site 45WW30, in Walla Walla County, WA. The materials collected were transported to WSU after excavation. The human remains from 45WW30 were reburied in 1982 at the Wanawish Cemetery in consultation with the Confederated Tribes of the Umatilla Indian Reservation, Oregon, and the Confederated Tribes and Bands of the Yakama Nation, Washington. The five unassociated funerary items are: 3 lots of glass beads, 1 lot of fabric, and 1 lot of metal fragments and chain. The funerary objects from 45WW30 appear to date between 1840 and 1860, based on the bead assemblage. The burial pattern at 45WW30 is common to post-contact Palus burials.

Site 45WW63

In 1977, the discovery of human remains and funerary objects were discovered within a burial at 45WW63, the Burbank Burial Site in Walla Walla County, WA, and reported to the Corps by the Walla Walla County Sheriff's Department. The burial was excavated by the Corps and archeologists from WSU and was described as “a historic box burial of an 8-10 year old girl * * * [with] trade beads, copper bracelets, drilled pendant, abalone shell, spoon, porcelain cut, etc.” (Allen 1977). The human remains were reburied at the Wanawish Cemetery and the funerary objects were transferred to UI and subsequently to WSU. The 16 unassociated funerary objects are: 1 spoon, 1 hook and eye set, 12 lots of glass beads, 1 lot of fabric fragments, and 1 lot of nails. The funerary objects from 45WW63 appear to date to 1860-1880, based on the burial type (an extended cedar box lined with matting and accompanied by numerous historic-period funerary objects) and based on the type of funerary objects present.

Determinations Made by the U.S. Department Of Defense, Army Corps of Engineers, Walla Walla District

Officials of the U.S. Department of Defense, Army Corps of Engineers, Walla Walla District, have determined that:

• Five lines of evidence—geographical, ethnographic, archeological, anthropological, and historical—support a cultural affiliation between the Confederated Tribes of the Colville Reservation, Washington; Confederated Tribes of the Umatilla Indian Reservation, Oregon; Confederated Tribes of Warm Springs Reservation, Oregon; Confederated Tribes and Bands of the Yakama Nation, Washington; and the Nez Perce Tribe, Idaho (hereinafter referred to as “The Tribes”) and the associated funerary objects identified above. Additionally, a cultural relationship is determined to exist between the sites and collections, and the Wanapum Band, a non-Federally recognized Indian group (hereinafter referred to as “The Indian Group”).

• Pursuant to 25 U.S.C. 3001(3)(B), the 1344 cultural items described above are reasonably believed to have been placed with or near individual human remains at the time of death or later as part of the death rite or ceremony and are believed, by a preponderance of the evidence, to have been removed from a specific burial site of a Native American individual.

• Pursuant to 25 U.S.C. 3001(2), there is a relationship of shared group identity that can be reasonably traced between the unassociated funerary objects, The Tribes and The Indian Group. Information provided by The Tribes and The Indian Group shows that they are descended from the Native people who occupied these sites, and that the individuals buried along the Snake and mid-Columbia Rivers are their ancestors. The aforementioned tribes are all part of the more broadly defined Plateau cultural community having shared past and present traditional lifeways that bind them to common ancestors.

Additional Requestors and Disposition

Representatives of any other Indian tribe that believes itself to be culturally affiliated with the unassociated funerary objects should contact LTC David Caldwell, U.S. Department of Defense, Army Corps of Engineers, Walla Walla District, 201 North Third Ave., Walla Walla, WA 99362, telephone (509) 527-7700, before December 29, 2011. Repatriation of the unassociated funerary objects to The Tribes and The Indian Group may proceed after that date if no additional claimants come forward.

The U.S. Department of Defense, Army Corps of Engineers, Walla Walla District, is responsible for notifying The Tribes and The Indian Group that this notice has been published.

Dated: November 22, 2011.
Sherry Hutt,
Manager, National NAGPRA Program.

[FR Doc. 2011-30629 Filed 11-28-11; 8:45 am]

BILLING CODE 4312-50-P